DEPARTMENT OF THE INTERIOR

Fish and Wildlife Service

[FWS-HQ-MB-2021-N033; FXMB12310900000/FF09M140000/212F1611MD]

Availability of Birds of Conservation Concern 2021

AGENCY: Fish and Wildlife Service, Interior.

ACTION: Notice of availability.

SUMMARY: We, the U.S. Fish and Wildlife Service, announce the availability of Birds of Conservation Concern 2021. This publication identifies species, subspecies, and populations of migratory birds in need of additional conservation actions. The purpose and goal of this publication is to stimulate and guide coordinated, collaborative, and proactive conservation actions for these taxa among Federal, State, Tribal, and private partners.

ADDRESSES: The subject document is available at https://www.fws.gov/birds/management/managed-species/birds-of-conservation-concern.php.

FOR FURTHER INFORMATION CONTACT: Jerome Ford, Assistant Director, Migratory Birds, U.S. Fish and Wildlife Service, Department of the Interior, 1849 C Street NW, Washington, DC 20240; 202-208-1050; jerome_ford@fws.gov. Individuals who are hearing or speech impaired may call the Federal Relay Service at 1-800-877-8339 for TTY assistance.

SUPPLEMENTARY INFORMATION: We, the U.S. Fish and Wildlife Service (Service), announce the availability of Birds of Conservation Concern 2021. This publication identifies species, subspecies, and populations of migratory birds in need of additional conservation actions. Our goal in publishing this list is to stimulate coordinated, collaborative, and proactive conservation actions among Federal, International, State, Tribal, and private partners.

The 1988 amendment to the Fish and Wildlife Conservation Act of 1980 (FWCA; 16 U.S.C. 2901-2912) requires the Secretary of the Interior, through the Service, to “identify species, subspecies, and populations of all migratory nongame birds that, without additional conservation actions, are likely to become candidates for listing under the Endangered Species Act of 1973, as amended (16 U.S.C. 1531-1543) [ESA].” 16 U.S.C. 2912; Public Law 100-653, 802. Birds of Conservation Concern 2021 fulfills that mandate and supersedes Birds of Conservation Concern 2008 (74 FR 11128). The overall purpose of the Birds of Conservation Concern list is to identify, by geography, those nongame migratory birds in greatest need of conservation attention. Thus, the species that appear in Birds of Conservation Concern 2021 are deemed to be the highest priority for conservation actions. We anticipate that the document will be consulted by Federal agencies and their partners prior to undertaking cooperative research, monitoring, and management actions that might directly or indirectly affect migratory birds.

The philosophy underlying the BCC reports is that proactive bird conservation is critical at a time when continued human impacts will be intensified by effects of a changing climate. By investing in actions for designated BCC taxa, we can prevent further degradation to environments that we all share, improve the odds for successful long-term conservation, and avoid the complexities associated with federal ESA listing. Proactive conservation is recognized as being more cost-effective than the recovery efforts required once a bird is listed under the ESA (e.g., Drechsler et al. 2011).

To serve as a broad early-warning system in the context of the FWCA, this list includes all of the species that we consider to be of conservation concern. Our objective in publishing the list is to focus conservation attention on bird species of concern well in advance of a possible or plausible need to consider them for listing under the ESA. Inclusion on this list does not constitute a finding that listing under the ESA is warranted, or that substantial information exists to indicate that listing under the ESA may be warranted. Many of the species on this list may never have to be considered for ESA listing, even if no additional conservation actions are taken.

Authority

The authority for this notice is the FWCA; the ESA; the Fish and Wildlife Act of 1956, as amended (16 U.S.C. 742a et seq.); and 16 U.S.C. 701.

Jerome Ford,
Assistant Director, Migratory Birds.

[FR Doc. 2021-12694 Filed 6-15-21; 8:45 am]

BILLING CODE 4333-15-P